DEPARTMENT OF AGRICULTURE

Animal and Plant Health Inspection Service

7 CFR Part 319

[Docket No. APHIS-2014-0092]

RIN 0579-AE17

Importation of Lemons From Northwest Argentina; Stay of Regulations

AGENCY: Animal and Plant Health Inspection Service, USDA.

ACTION: Final rule; stay of regulations.

SUMMARY: On December 23, 2016, we published a final rule amending the fruits and vegetables regulations to allow the importation of lemons from northwest Argentina into the continental United States under certain conditions. In a document published on January 25, 2017, we stayed the regulations for 60 days ending March 27, 2017. In this document, we are issuing an additional stay of those regulations.

DATES: Effective March 24, 2017, 7 CFR 319.28(e) and 319.56-76, added December 23, 2016 (81 FR 94217), and stayed on January 25, 2017 (82 FR 8353), until March 27, 2017, continue to be stayed until May 26, 2017.

FOR FURTHER INFORMATION CONTACT: Mr. Stephen O'Neill, Chief, Regulatory Analysis and Development, PPD, APHIS, 4700 River Road Unit 118, Riverdale, MD 20737-1234; (301) 851-3175.

SUPPLEMENTARY INFORMATION: On December 23, 2016, we published a final rule (81 FR 94217-94230) amending the fruits and vegetables regulations to allow the importation of lemons from northwest Argentina into the continental United States under certain conditions. On January 25, 2017, we issued a stay of those regulations (82 FR 8353) for 60 days in accordance with guidance issued January 20, 2017, intended to provide the new Administration an adequate opportunity to review new and pending regulations. In this document we are issuing a further stay of those regulations in order to provide sufficient time to consider the stakeholder input made since January 25, 2017.

To the extent that 5 U.S.C. 553(b)(A) applies to this action, it is exempt from notice and comment for good cause and the reasons cited above. The Animal and Plant Health Inspection Service (APHIS) finds that notice and solicitation of comment regarding the brief extension of the effective date for the final regulation are impracticable, unnecessary, and contrary to the public interest pursuant to 5 U.S.C. 553(b)(B). APHIS believes that affected entities need to be informed as soon as possible of the extension and its length in order to plan and adjust their implementation process accordingly.

Authority: 7 U.S.C. 450, 7701-7772, and 7781-7786; 21 U.S.C. 136 and 136a; 7 CFR 2.22, 2.80, and 371.3.

Done in Washington, DC, this 20th day of March 2017.
Michael C. Gregoire,
Acting Administrator, Animal and Plant Health Inspection Service.

[FR Doc. 2017-05877 Filed 3-23-17; 8:45 am]

BILLING CODE 3410-34-P